LIBRARY OF CONGRESS

Copyright Royalty Board

Distribution of 1999, 2000, 2001, 2002, 2003, 2004 and 2005 Satellite Royalty Funds

AGENCY: Copyright Royalty Board, Library of Congress.

ACTION: Request for comments.

SUMMARY: The Copyright Royalty Judges are requesting comments as to the existence of controversies at Phase I and Phase II for distribution of the 1999 through 2005 royalty funds collected under the satellite carrier statutory license.

DATES: Comments are due on or before February 29, 2008.

ADDRESSES: Comments may be sent electronically to crb@loc.gov. In the alternative, send an original, five copies, and an electronic copy on a CD either by mail or hand delivery. Please do not use multiple means of transmission. Comments may not be delivered by an overnight delivery service other than the U.S. Postal Service Express Mail. If by mail (including overnight delivery), comments must be addressed to: Copyright Royalty Board, P.O. Box 70977, Washington, DC 20024-0977. If hand delivered by a private party, comments must be brought to the Library of Congress, James Madison Memorial Building, LM-401, 101 Independence Avenue, SE., Washington, DC 20559-6000. If delivered by a commercial courier, comments must be delivered to the Congressional Courier Acceptance Site located at 2nd and D Street, NE., Washington, DC. The envelope must be addressed to: Copyright Royalty Board, Library of Congress, James Madison Memorial Building, LM-403, 101 Independence Avenue, SE., Washington, DC 20559-6000.

FOR FURTHER INFORMATION CONTACT: Richard Strasser, Senior Attorney, or Gina Giuffreda, Attorney Advisor, by telephone at (202) 707-7658 or e-mail at crb@loc.gov.

SUPPLEMENTARY INFORMATION:

Background

Each year, semiannually, satellite carriers must submit royalty payments to the Copyright Office as required by the satellite carrier statutory license for the privilege of retransmitting over-the-air television broadcast stations. 17 U.S.C. 119. These royalties are then distributed to copyright owners whose works were included in such retransmissions and who timely file a claim for royalties. Distribution of the royalties for each calendar year are conducted by the Copyright Royalty Judges in two phases. At Phase I, the royalties are divided among the representatives of the major categories of copyrightable content (movies, sports programming, music, etc.) requesting the distribution. At Phase II, the royalties are divided among the various copyright owners within each category.

Final distribution of royalties in any given royalty year may be made by agreement of all the copyright owners making claim to the funds. If, however, there is a controversy as to the proper distribution, either at Phase I or Phase II, the Copyright Royalty Judges are required to conduct a proceeding under chapter 8 of the Copyright Act. See 17 U.S.C. 119(b)(4)(B).

Request for Comments

In order to determine whether further proceedings are necessary for the distribution of the 1999-2005 satellite royalty funds, the Copyright Royalty Judges request that interested copyright claimants identify the existence of both Phase I and Phase II controversies. Claimants should identify the specific royalty years in which they have a controversy, whether the controversy is at Phase I and/or Phase II, and the approximate extent of the controversy. In addition, the Judges seek comment as to the advisability of consolidating multiple royalty years into a single distribution proceeding and what, if any, royalty years should be consolidated.

Dated: January 24, 2008.
James Scott Sledge,
Chief, Copyright Royalty Judge.

[FR Doc. E8-1663 Filed 1-29-08; 8:45 am]

BILLING CODE 1410-72-P